NUCLEAR REGULATORY COMMISSION

Rensselaer Polytechnic Institute

[Docket No. 50-225; NRC-2008-0277]

Rensselaer Polytechnic Institute Critical Experiments Facility; Environmental Assessment and Finding of No Significant Impact

The U.S. Nuclear Regulatory Commission (NRC, the Commission) is considering issuance of a renewed Facility Operating License No. CX-22, to be held by the Rensselaer Polytechnic Institute (RPI, the licensee), which would authorize continued operation of the Rensselaer Polytechnic Institute Critical Experiments Facility (RCF), located in Schenectady, Schenectady County, New York. Therefore, as required by Title 10 of the Code of Federal Regulations (10 CFR) Section 51.21, the NRC is issuing this Environmental Assessment (EA) and Finding of No Significant Impact.

Environmental Assessment

Identification of the Proposed Action

The proposed action would renew Facility Operating License No. CX-22 for a period of twenty years from the date of issuance of the renewed license. The proposed action is in accordance with the licensee's application dated November 19, 2002, as supplemented by letters dated July 21, July 28, and September 3, 2008; June 28, August 31, October 14, and October 28, 2010; and February 14 and May 9, 2011. In accordance with 10 CFR 2.109, the existing license remains in effect until the NRC takes final action on the renewal application.

Need for the Proposed Action

The proposed action is needed to allow the continued operation of the RCF to routinely provide teaching, research, and services to numerous institutions for a period of 20 years.

Environmental Impact of the Proposed Action

The NRC staff has completed its safety evaluation of the proposed action to issue a renewed Facility Operating License No. CX-22 to allow continued operation of the RCF for a period of twenty years and concludes there is reasonable assurance that the RCF will continue to operate safely for the additional period of time specified in the renewed license. The details of the NRC staff's safety evaluation will be provided with the renewed license that will be issued as part of the letter to the licensee approving the license renewal application. This document contains the environmental assessment of the proposed action.

The RCF is located on the south bank of the Mohawk River, approximately 24 kilometers (km) (15 miles (mi)) northwest of the main RPI campus. The building housing the RCF is a stand-alone concrete structure previously owned by the American Locomotive Company. An exhaust stack discharges RCF ventilation 15 meters (m) (50 feet (ft)) above ground level. A chain-link fence and controlled access gates enclose the exclusion area surrounding the building. The exclusion area measures approximately 30 m (100 ft) by 30 m (100 ft). The nearest permanent residence is located 350 m (1150 ft) to the southeast.

The RCF is a light-water-moderated critical facility licensed to operate at a maximum steady-state power level of 100 watts thermal power (W(t)). The core is located in a 7600 liter (l) (2000 gallon (gal)) stainless steel tank with an inner diameter of 2.1 m (7 ft). The reactor is fueled with low enriched uranium SPERT fuel pins. Reactivity control is provided by four Boron-10 control rods. A detailed description of the reactor can be found in the RCF Safety Analysis Report (SAR). There have been no major modifications to the facility operating license since Amendment No. 7, dated July 7, 1987, which ordered the licensee to convert the reactor to use low-enriched uranium fuel.

The licensee has not requested any changes to the facility design or operating conditions as part of the application for license renewal. No changes are being made in the types or quantities of effluents that may be released off site. The licensee implements a radiation protection program to monitor personnel exposures and radiation dose at the site boundary. As discussed in the NRC staff's safety evaluation, the radiation protection program is appropriate for the types and quantities of effluents expected to be generated by continued operation of the reactor. Accordingly, there would be no increase in routine occupational or public radiation exposure as a result of license renewal. As discussed in the NRC staff's safety evaluation, the proposed action will not significantly increase the probability or consequences of accidents. Therefore, license renewal would not change the environmental impact of facility operation. The NRC staff evaluated information contained in the licensee's application and data reported to the NRC by the licensee for the last five years of operation to determine the projected radiological impact of the facility on the environment during the period of the renewed license. The NRC staff finds that releases of radioactive material and personnel exposures were all well within applicable regulatory limits, and often below detection limits. Based on this evaluation, the NRC staff concludes that continued operation of the reactor should not have a significant environmental impact.

I. Radiological Impact

Environmental Effects of Reactor Operations

Gaseous effluents are discharged from the reactor room via the exhaust stack. A continuous air monitor samples the air above the reactor tank for particulate beta-gamma activity. There are no nuclides of detectable concentration in the RCF gaseous effluent stream. This is consistent with the low power and infrequent operation of the RCF. No radioactivity associated with gaseous effluents was reported to the NRC during the reporting period from January 1, 2005, to December 31, 2009. Accordingly, the licensee has demonstrated compliance with the limits specified in 10 CFR part 20, Appendix B for air effluent releases. The maximum dose rate to a member of the general public due to gaseous effluents is expected to be less than 0.01 milliSievert per year (mSv/yr) (1 millirem per year (mrem/yr)). This demonstrates compliance with the annual dose limit of 1 mSv (100 mrem) set by 10 CFR 20.1301. Additionally, this potential radiation dose demonstrates compliance with the annual air emissions dose constraint of 0.1 mSv (10 mrem) specified in 10 CFR 20.1101(d).

Liquid effluents are discharged to the Mohawk River or an external holding container. Due to low neutron flux and limited operations, the RCF pool water does not accumulate significant amounts of activation products. Liquid effluents are sampled for nuclide activity prior to discharge. Liquid waste that does not meet the discharge requirements of 10 CFR 20.2003 for disposal by release into sanitary sewerage, is retained onsite in an appropriate container until proper disposal can be arranged. Liquid radioactive releases reported to the NRC were within the limits specified in 10 CFR part 20, Appendix B for liquid effluents. During the reporting period from January 1, 2005, to December 31, 2009, two discharges of liquid effluent with no detectable activity were made to the Mohawk River for the purpose of flushing the storage tank.

The licensee did not package or ship any solid low-level radioactive waste during the reporting period from January 1, 2005, to December 31, 2009, nor does the licensee anticipate shipping any during the period of the renewed license. To comply with the Nuclear Waste Policy Act of 1982, RPI has entered into a contract with the U.S. Department of Energy (DOE) that provides that DOE retains title to the fuel utilized at the RCF and that DOE is obligated to take the fuel from the site for final disposition. The licensee does not anticipate the need to ship any high-level radioactive waste during the 20-year period of license renewal.

The RPI radiation safety officer tracks personnel exposures, which are usually less than 0.1 mSv (10 mrem) per year. Personnel exposures reported to the NRC were within the limits set by 10 CFR 20.1201, and ALARA (As Low As is Reasonably Achievable). No changes in reactor operation that would lead to an increase in occupational dose are expected as a result of the proposed action.

The licensee conducts an environmental monitoring program to measure the dose rates at locations around the RCF. Dose measurements are made quarterly using thermoluminescent dosimeters. The monitoring program comprises four measurements at the exclusion area boundary and two measurements at the site boundary. An additional measurement for control purposes is taken at the General Electric Guard Station more than 1.6 km (1 mi) away. During the reporting period from January 1, 2005, to December 31, 2009, measured doses at the site boundary were within 0.1 mSv/yr (10 mrem/yr) (the detectable limit) of the control measurement. This demonstrates compliance with the limits set by 10 CFR 20.1301. Based on the NRC staff's review of the past five years of data, the NRC staff concludes that operation of the RCF does not have any significant radiological impact on the surrounding environment. No changes in reactor operation that would affect off-site radiation levels are expected as a result of license renewal.

Environmental Effects of Accidents

Accident scenarios are discussed in chapter 13 of the RCF SAR. The maximum hypothetical accident (MHA) is the failure of an experiment leading to a release of airborne radioactive material into the reactor room and into the environment. The licensee conservatively calculated doses to facility personnel and the maximum potential dose to a member of the public. The NRC staff performed independent calculations to verify that the doses represent conservative estimates for the MHA. As discussed in the NRC staff's safety evaluation, the MHA will not result in occupational doses or doses to members of the general public in excess of the limits specified in 10 CFR part 20. The proposed action will not increase the probability or consequences of accidents.

II. Non-Radiological Impact

The RFC uses standard city water as a neutron moderator and core shielding. Water usage is minimized by draining the reactor tank into a storage tank upon shutdown for reuse during the following operating period. All surfaces that come into contact with the moderator are stainless steel, thus eliminating the need for routine filtration and demineralization of the moderator to prevent corrosion. Evaporative losses of the moderator are minimal, and are replaced with city water when necessary. The RCF core does not produce sufficient power to significantly heat the moderator. As a result, there are no significant thermal effluents associated with operation of the RCF.

National Environmental Policy Act (NEPA) Considerations

NRC has responsibilities that are derived from NEPA and from other environmental laws, which include the Endangered Species Act (ESA), Coastal Zone Management Act (CZMA), National Historic Preservation Act (NHPA), Fish and Wildlife Coordination Act (FWCA), and Executive Order 12898 Environmental Justice. The following presents a brief discussion of impacts associated with these laws and other requirements.

I. Endangered Species Act (ESA)

The RCF site does not contain any Federally- or state-protected fauna or flora, nor do the RCF effluents impact the habitats of any such fauna or flora, with one possible exception. The Karner blue butterfly is listed as endangered in Schenectady County, New York, as well as in numerous other counties in varied states along the Great Lakes Region, by the U.S. Fish and Wildlife Service. The primary threats to this species are habitat destruction and wildfire suppression. Continued operation of the RCF does not pose any unique or serious threats to this species as the RCF site is well established, has a small footprint, and is surrounded by developed land unsuitable for supporting a large population of Karner blue butterflies.

II. Costal Zone Management Act (CZMA)

The site occupied by the RCF is not located within any managed coastal zones, nor do the RCF effluents impact any managed costal zones.

III. National Historical Preservation Act (NHPA)

The NHPA requires Federal agencies to consider the effects of their undertakings on historic properties. The National Register of Historic Places (NRHP) lists several historical sites located near the RCF. According to the NRHP, the locations of these sites are at least 0.5 km (0.3 mi) from the RCF. Given the distance to these sites and that the proposed action does not involve any demolition, rehabilitation, construction, changes in land use, or significant changes in effluents from the facility, continued operation of the RCF will not impact any historic sites. The NRC staff consulted the State Historic Preservation Officer (SHPO), and the SHPO determined that license renewal would have no adverse effect on historic properties in the vicinity of the RCF. Based on this information, the NRC staff finds that the potential impacts of license renewal would have no adverse effect on historic properties.

IV. Fish and Wildlife Coordination Act

The licensee is not planning any water resource development projects, including any of the modifications relating to impounding a body of water, damming, diverting a stream or river, deepening a channel, irrigation, or altering a body of water for navigation or drainage.

V. Executive Order 12898—Environmental Justice

The environmental justice impact analysis evaluates the potential for disproportionately high and adverse human health and environmental effects on minority and low-income populations that could result from the relicensing and the continued operation of the RCF. Such effects may include human health, biological, cultural, economic, or social impacts.

Minority Populations in the Vicinity of the RCF—According to 2000 census data, 10.2 percent of the total population (approximately 1,307,000 individuals) residing within a 50-mile radius of RCF identified themselves as minority individuals. The largest minority groups were Black or African American (approximately 73,000 persons or 5.6 percent), followed by Hispanic or Latino (33,000 or 2.5 percent). According to the U.S. Census Bureau, about 13.7 percent of the Schenectady County population identified themselves as minorities, with persons of Black or African American origin comprising the largest minority group (6.8 percent). According to the census data 3-year average estimates for 2006-2008, the minority population of Schenectady County, as a percent of the total population, had increased to 20 percent.

Low-income Populations in the Vicinity of the RCF—According to 2000 Census data, approximately 23,000 families and 123,000 individuals (approximately 6.9 and 9.4 percent, respectively) residing within a 50-mile radius of the RCF were identified as living below the Federal poverty threshold in 1999. The 1999 Federal poverty threshold was $17,029 for a family of four.

According to Census data in the 2006-2008 American Community Survey 3-Year Estimates, the median household income for New York was $55,401, while 10.5 percent of families and 13.8 percent of the state population were determined to be living below the Federal poverty threshold. Schenectady County had the same median household income average ($55,421) and a lower percent of families (6.7 percent) and a similar percentage of individuals (10.8 percent) living below the poverty level, respectively.

Impact Analysis—Potential impacts to minority and low-income populations would mostly consist of radiological effects, however radiation doses from continued operations associated with the license renewal are expected to continue at current levels, and would be well below regulatory limits. Minority and low-income populations are subsets of the general public residing around the RCF, and all are exposed to the same health and environmental effects generated from activities at the RCF. Based on this information and the analysis of human health and environmental impacts presented in this environmental assessment, the license renewal would not have disproportionately high and adverse human health and environmental effects on minority and low-income populations residing in the vicinity of the RCF.

Environmental Impacts of the Alternatives to the Proposed Action

As an alternative to license renewal, the NRC staff considered denial of the proposed action. If the Commission denied the application for license renewal, facility operations would end and decommissioning would be required. The NRC staff notes that, even with a renewed license, the RCF will eventually be decommissioned, at which time the environmental effects of decommissioning will occur. Decommissioning would be conducted in accordance with an NRC-approved decommissioning plan, which would require a separate environmental review under 10 CFR 51.21. Cessation of reactor operations would reduce or eliminate radioactive effluents and emissions. However, as previously discussed in this environmental assessment, radioactive effluents and emissions from reactor operations constitute a small fraction of the applicable regulatory limits, and are often below detectable levels. Therefore, the environmental impacts of license renewal and the denial of the request for license renewal would be similar. In addition, denying the request for license renewal would eliminate the benefits of teaching, research, and services provided by the RCF.

Alternative Use of Resources

The proposed action does not involve the use of any different resources or significant quantities of resources beyond those previously considered in the issuance of Amendment No. 5 to Facility Operating License No. CX-22, dated December, 1983, which renewed the license for a period of twenty years, or the issuance of Amendment No. 7 dated July 7, 1987, which ordered RPI to convert the reactor to use low-enriched uranium fuel.

Agencies and Persons Consulted

In accordance with the agency's stated policy, on September 4, 2008, the NRC staff consulted with the State Liaison Officer regarding the environmental impact of the proposed action. The State official had no comments regarding the proposed action. The NRC staff also consulted with the SHPO regarding the potential impact of the proposed action on historic resources. As previously mentioned, the SHPO determined that license renewal would have no adverse effect on historic properties in the vicinity of the RCF.

Finding of No Significant Impact

On the basis of the environmental assessment, the NRC concludes that the proposed action will not have a significant effect on the quality of the human environment. Accordingly, the NRC has determined not to prepare an environmental impact statement for the proposed action.

For further details with respect to the proposed action, see the licensee's letter dated November 19, 2002 (ML023380455 and ML072210835), as supplemented on July 21 (ML082060048), July 28 (ML082190523), and September 3, 2008 (ML101260200); June 28 (ML101820298), August 31 (ML102790045 and ML102720039), October 14 (ML103070074), and October 28, 2010 (ML103080207); and February 14 (ML110490531) and May 9, 2011 (ML11131A180). Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the NRC Web site http://www.nrc.gov/reading-rm/adams.html. Persons who do not have access to ADAMS or who encounter problems in accessing the documents located in ADAMS should contact the NRC PDR Reference staff at 1-800-397-4209, or 301-415-4737, or send an e-mail to pdr.resource@nrc.gov.

Dated at Rockville, Maryland, this 3rd day of June, 2011.
For the Nuclear Regulatory Commission.
Jessie Quichocho,
Chief, Research and Test Reactors Licensing Branch, Division of Policy and Rulemaking, Office of Nuclear Reactor Regulation.

[FR Doc. 2011-14665 Filed 6-13-11; 8:45 am]

BILLING CODE 7590-01-P